DEPARTMENT OF TRANSPORTATION

Federal Transit Administration

FTA Supplemental Fiscal Year 2015 Apportionments, Allocations, and Program Information

AGENCY: Federal Transit Administration (FTA), U.S. Department of Transportation.

ACTION: Notice.

SUMMARY: The Federal Transit Administration (FTA) annually publishes one or more notices to apportion funds appropriated by law. This notice is the third notice which announces the remaining apportionment for programs funded with fiscal year (FY) 2015 contract authority.

FOR FURTHER INFORMATION CONTACT: For general information about this notice contact Kimberly Sledge, Director, Office of Transit Programs, at (202) 366-2053. Please contact the appropriate FTA regional office for any specific requests for information or technical assistance. A list of FTA regional offices and contact information is available on the FTA Web site at http://www.fta.dot.gov.

I. Overview

The FTA's public transportation assistance program authorization, the Moving Ahead for Progress in the 21st Century Act (MAP-21), expired September 30, 2014. Since that time, Congress has enacted short-term extensions allowing FTA to continue its current programs. The most recent extension, the Highway and Transportation Funding Act of 2015, Public Law 114-41, (July 31, 2015), continues MAP-21 through October 29, 2015. This extension allows FTA to make available contract authority for transit assistance programs through September 30, 2015.

The FTA's full-year appropriations, the Consolidated and Further Continuing Appropriations Act, 2015, Public Law 113-235 (Dec. 16, 2014), hereinafter “Appropriations Act, 2015” was enacted in December 2014, giving FTA appropriated resources for FY 2015 for Administrative Expenses, Capital Investment Grants (CIG), Research and Technical Assistance and Training programs, and Grants to the Washington Metropolitan Area Transportation Authority. The Appropriations Act, 2015 also provides a full fiscal year obligation limitation of $8,595,000,000 of contract authority for FTA programs funded from the Mass Transit Account of the Highway Trust Fund during this fiscal year.

On July 23, 2015, FTA published an apportionments notice that apportioned approximately 10/12ths of the FY 2015 authorized contract authority among potential program recipients based on contract authority that was available from June 1, 2015 through July 31, 2015 (80 FR 141). That notice also provided relevant information about the FY 2015 funding available and end-of-year grant management and application procedures. A copy of that notice and accompanying tables can be found on the FTA Web site at http://www.fta.dot.gov/apportionments.

This document provides notice to stakeholders that FTA is apportioning the full-year FY 2015 authorized contract authority—October 1, 2014 through September 30, 2015—among potential program recipients according to statutory formulas in 49 U.S.C. Chapter 53. This document also allocates most of the remaining CIG funding to projects with existing Full Funding Agreements (FFGA) or projects recommended to receive an FFGA. The FTA has posted tables displaying the funds available to eligible states and urbanized areas on FTA's Web site at http://www.fta.dot.gov/apportionments.

The formula apportionment tables that allocate the full year of FY 2015 appropriated funds can be found at http://www.fta.dot.gov/apportionments. In addition, the National Transit Database (NTD) and Census Data used in the funding formulas can be found at http://www.fta.dot.gov/apportionments.

II. Grant Management and Application Procedures

A. The Transportation Electronic Awards Management (TEAM) system will close on Friday, September 25, 2015. Grants and cooperative agreements must have all applicable assurances and certifications completed so that funds can be awarded by the deadline. Funding that has not been awarded in an application by September 25, 2015 will not be migrated into the new FTA financial system, TrAMS. Instead, these applications will need to be re-created when TrAMS deploys in FY 2016. This applies to new applications as well as amendments to existing awards.

B. Recipients of open American Recovery and Reinvestment Act (ARRA) grants should be aware that, as a matter of law, all remaining ARRA funds MUST be disbursed from grants by the end of the 5th fiscal year (FY) after funds were required to be obligated. (See 31 U.S.C. 1552.) For FTA ARRA projects, that requirement takes affect at the end of FY 2015. Accordingly, once FTA's ECHO grant payment system closes for disbursement payments on September 25, 2015, all remaining unliquidated funds within FTA ARRA funded grants will no longer be available to the grantee, will be deobligated from the grant, and returned to the U.S. Department of the Treasury. Even if a grantee has incurred costs or disbursed funds prior to the close of ECHO, if the grantee has not actually drawn down the funds by 2:00 p.m. EDT on September 25, 2015 FTA would be unable to reimburse the grantee. Therefore, grantees with open ARRA grants must ensure project activities are completed and all funds are drawdown by 2:00 p.m. EDT on September 25, 2015. For ARRA TIGER I projects, the same requirement will be in effect for the end of FY 2016.

Therese W. McMillan,
Acting Administrator.

[FR Doc. 2015-21242 Filed 8-26-15; 8:45 am]

BILLING CODE P